NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: October 19, 2006; 7:45 a.m.-9 p.m. October 20, 2006; 8 a.m.-4 p.m.

Place: Harvard University, Cambridge, MA.

Type of Meeting: Part-Open.

Contact Person: Dr. Maija M. Kukla, Program Director, Materials Research Science and Engineering Centers Program, Division of Materials Research, Room 1065, National Science Foundation, 4201 Wilson Boulevard, Arlington, VA 22230, Telephone (703) 292-4940.

Purpose of Meeting: To provide advice and recommendations concerning further support of the Materials Research Science and Engineering Center.

Agenda

Thursday, October 19, 2006

7:45 a.m.-8:45 a.m. Clossed—Briefing of Site Visit Panel.

8:45 a.m.-12 p.m. Open—Welcome (institutional representatives, etc.).

12 p.m.-1 p.m. Closed.

1 p.m.-4:45 p.m. Open—Technical research presentations and seed projects.

4:45 p.m.-6:15 p.m. Closed—Executive Session for Site Visit Team.

6:15 p.m.-7 p.m. Open—Poster Session (limited number of posters).

7 p.m.-9 p.m. Closed—Meeting of Site Panel.

Friday, October 20, 2006

8 a.m.-9 a.m. Closed—Executive session, Director's Response to Feedback.

9 a.m.-10:45 a.m. Open—Industrial Outreach and Other Collaborations (Weitz).

10:45 a.m.-4 p.m. Closed—Discussion with MRSEC Executive Committee.

Reason for Closing: The work being reviewed may include information of a proprietary or confidential nature, including technical information; financial data, such as salaries and personal information concerning individuals associated with the proposals. These matters are exempt under 5 U.S.C. 552b(c), (4) and (6) of the Government in the Sunshine Act.

Dated: September 28, 2006.
Susanne Bolton,
Committee Management Officer.

[FR Doc. 06-8456 Filed 10-2-06; 8:45 am]

BILLING CODE 7555-01-M